DEPARTMENT OF TRANSPORTATION

Federal Aviation Administration

RTCA Special Committee 172: Future Air-Ground Communications in the VHF Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held August 14-16, 2001 starting at 9:00 am each day.

ADDRESSES: The meeting will be held at RTCA, Inc., 1828 L Street, NW., Suite 805, Washington, DC, 20036.

FOR FURTHER INFORMATION CONTACT: (1) RTCA Secretariat, 1828 L Street, SW., Washington, DC, 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 172 meeting. The agenda will include:

August 14

• Opening Plenary Session (Welcome and Introductory Remarks, Review of Agenda, Review Summary of Previous Meeting)

• FAA Certification Concerns reference Minimum Operational Performance Standard (MOPS) and Technical Standard Orders (TSOs)

• Form Working Group 3: VHF Data Link 2 MOPS work continues

August 15

• Working Group 3: VHF Data Link 2 MOPS work continues

August 16

• Plenary Reconvenes (Review Status of Working Groups 2 and 3)

• Review of Relevant International Activities (AMCP Working Groups, Working Group 47 Status and Issues)

• Report on Digital Activities (NEXCOM Aviation Rulemaking Committee [NARC], AEEC SAI work, Others as appropriate)

• Closing Session (Other Business, Establish Agenda for Next Meeting, Date and Place of Next Meeting)

• Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 25, 2001.
Janice L. Peters,
FAA Special Assistant, RTCA Advisory Committee.

[FR Doc. 01-19159 Filed 7-31-01; 8:45 am]

BILLING CODE 4910-13-M